NATIONAL AERONAUTICS AND SPACE ADMINISTRATION

[Notice 04-048]

Notice of Prospective Patent License

AGENCY: National Aeronautics and Space Administration.

ACTION: Notice of prospective patent license.

SUMMARY: NASA hereby gives notice that Mission Technologies, Inc., of San Antonio, TX, has applied for a partially exclusive license to practice the invention described and claimed in U.S. pending patent application identified as NASA Case No. MSC-23510-1, “Portable Catapult Launcher for Small Aircraft.” The patent application is assigned to the United States of America as represented by the Administrator of the National Aeronautics and Space Administration. Written objections to the prospective grant of a license should be sent to the Johnson Space Center.

DATES: Responses to this Notice should be received by April 14, 2004.

FOR FURTHER INFORMATION CONTACT: Theodore Ro, Patent Attorney, NASA Johnson Space Center, Mail Stop HA, Houston, TX 77058-8452; telephone (281) 244-7148.

Dated: March 24, 2004.
Robert M. Stephens,
Deputy General Counsel.

[FR Doc. 04-7049 Filed 3-29-04; 8:45 am]

BILLING CODE 7510-01-P